DEPARTMENT OF TRANSPORTATION

Federal Highway Administration

Environmental Impact Statement: Monroe County, NY

AGENCY: Federal Highway Administration (FHWA), DOT.

ACTION: Notice of intent.

SUMMARY: The FHWA is issuing this notice to advise the public that an environmental impact statement will be prepared for a proposed highway project in Monroe County, New York.

FOR FURTHER INFORMATION CONTACT: Charles E. Moynihan, P.E., Regional Director, New York State Department of Transportation; 1530 Jefferson Road, Rochester, NY 14623; Telephone: (585) 272-3310; or Robert E. Arnold, Division Administrator, Federal Highway Administration, New York Division, Leo W. O'Brien Federal Building, 7th Floor, Room 719, Clinton Avenue and North Pearl Street, Albany, New York 12207, Telephone: (518) 431-4127.

SUPPLEMENTARY INFORMATION: The FHWA, in cooperation with the New York State Department of Transportation (NYSDOT), will prepare an environmental impact statement (EIS) on a proposal to improve Routes 31 and 531 in the Towns of Ogden and Sweden, Monroe County, New York. The approximate project limits are from the current terminus of Route 531 at Route 36 to west of Redman Road. Improvements to the 6.5 mile long corridor are considered necessary to provide for the existing and projected traffic demand and to address highway safety.

Alternatives under consideration include (1) taking no action; (2) improvements to the Route 531 terminus and to Route 31; (3) constructing a four-lane, limited access highway on new location. Incorporated into and studied with the various build alternatives will be design variation of grade and alignment and various intersection improvements.

Letters describing the proposed action and soliciting comments will be sent to appropriate Federal, State, and local agencies, and to private organizations nad citizens who have previously expressed interest in this proposal. In addition to scoping discussion with these interested parties, the general public will have the opportunity to make scoping comments both in writing and in person at a Public Information/Scoping Meeting that will be held at Brockport Central Fred Hill Elementary School, 40 Allen Street, Brockport, on Tuesday, March 8, 2005. After the DEIS is prepared, it will be available for public and agency review and comment. This will be followed by a public hearing. Public notice will be given of the time and place of the hearings.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205, Highway Research, Planning and Construction. The regulations implementing Executive Order 12372 regarding intergovernmental consultation on Federal programs and activities apply to this program.)

Authority: 23 U.S.C. 315; CFR 771.123

Issued on: January 3, 2005.
Willet R. Schroft,
District Operations Engineer, Federal Highway Administration, New York Division, Albany, New York.

[FR Doc. 05-768 Filed 1-13-05; 8:45 am]

BILLING CODE 4910-22-M